DEPARTMENT OF DEFENSE

Department of the Army; Corps of Engineers

Intent To Prepare a Draft Supplement No. 2 to the Final Environmental Impact Statement for the West Tennessee Tributaries (WTT) General Reevaluation

AGENCY: Department of the Army, U.S. Army Corps of Engineers, DoD.

ACTION: Notice of Intent.

SUMMARY: The draft supplement no. 2 will be prepared in conjunction with a general reevaluation report (GRR) and will supplement the “Final Supplement to the Final Environmental Impact Statement, West Tennessee Tributaries Project (Obion-Forked Deer River Basin),” filed with the Environmental Protection Agency on February 25, 1983. A general reevaluation study will be conducted for the entire WTT project area to determine if there is still a federal interest in pursuing a flood risk management project and, if so, recommend a plan of improvement. The GRR and draft supplement no. 2 to the final environmental impact statement (FEIS) will focus on methods that reduce flood risks within the Obion and Forked Deer watersheds by restoring natural floodplain functions and reducing sedimentation that could cause channel blockages.

FOR FURTHER INFORMATION CONTACT: Mr. Michael Thron, telephone (901) 544-0708, CEMVM-PM-E, 167 N. Main, Room B-202, Memphis, TN 38103, e-mail—john.m.thron@usace.army.mil.

SUPPLEMENTARY INFORMATION: 1. Proposed Action: The project study consists of determining flood risk management solutions in the Obion and Forked Deer watersheds in west Tennessee. The project is authorized by Section 203 of the Flood Control Act of June 30, 1948 (Pub. L. 80-858, 62 Stat. 1171, 1175, 1178), and amended and modified by Section 207 of the Rivers and Harbors Act of November 7, 1966 (Pub. L. 89-789, 80 Stat. 1405), and further amended by Section 3 of the Water Resources Development Act of March 7, 1974 (Pub. L. 93-251, 88 Stat. 12, 14) and Section 183 of the Water Resources Development Act of October 22, 1976 (Pub. L. 94-587, 90 Stat. 2917). Construction began in 1961. The initial project environmental impact statement (EIS) was filed with the Council on Environmental Quality (CEQ) on February 3, 1971. The federal court determined in 1973 that the 1971 EIS prepared by the Corps did not meet National Environmental Policy Act (NEPA) standards and enjoined the Corps from further construction on March 2, 1973. The Corps filed a revised EIS with CEQ on July 21, 1975, entitled, “Final Environmental Impact Statement West Tennessee Tributaries Project;” however, the federal court in its decision of January 27, 1978 again determined that the FEIS was not sufficient to meet NEPA standards and directed that it be supplemented. A final supplement to the FEIS was filed with the Environmental Protection Agency on February 25, 1983 (Record of Decision signed August 8, 1983), entitled, “Final Supplement to the Final Environmental Impact Statement, West Tennessee Tributaries Project.” The final supplement to the FEIS included the addition of certain soil erosion control and timber, fish, and wildlife conservation features to the flood control plan. Construction resumed in 1985 after the issuance of a consent order (Civil Action Number C-70-349) stating the Corps was allowed to proceed provided they follow a protocol in the acquisition of the 32,000 acres of mitigation lands authorized by Section 3 of the Water Resources Development Act of 1974 (Pub. L. 93-251, 88 Stat. 12, 14). However, in June of 1987, the State of Tennessee denied water quality certification for the next item of work and construction was again suspended. All attempts to resolve the denial were unproductive. By April of 1990, the Corps had acquired 13,527 acres of mitigation lands for the project. Several demonstration projects were pursued between 1992 and 2008. Most notably, a limited reevaluation was performed in 1996 for a demonstration project in the Middle Fork Forked Deer River and a demonstration project in the Stokes Creek watershed. However, the costs of compliance with the consent order were too great to pursue the demonstration projects. By letter dated December 23, 2008, the State of Tennessee requested that a general reevaluation study be conducted for the entire project area to determine if there is still a federal interest in pursuing a flood risk management project and, if so, recommend a plan of improvement.

2. Reasonable Alternatives: A wide range of alternatives will be examined for the study. Alternatives will focus on methods that control sediment entering the Obion and Forked Deer watersheds, restore natural floodplain functions, and comply with the consent order while achieving the authorized project purpose of flood risk management. Comparisons will be made among the alternative plans, including the “no action” alternative.

3. The Scoping Process: The purpose of this notice is to advise all interested parties of the intent to supplement the “Final Supplement to the Final Environmental Impact Statement, West Tennessee Tributaries Project (Obion-Forked Deer River Basin)” and to solicit comments and information concerning the study. A public involvement program has been initiated and will be maintained throughout the study to solicit input from individuals and interested parties and to identify any concerns or significant issues related to the project. This notice is being circulated to federal, state, and local environmental resource and regulatory agencies; Indian Tribes; non-governmental organizations; and the general public. All interested parties are encouraged to participate in the scoping process. A public scoping meeting will be held on June 23, 2009, 7 p.m., at the Temple Baptist Church, 9105 East Van Hook, Milan, Tennessee. It is anticipated that the draft supplement no. 2 to the FEIS will be available for public review during the fall of 2014. A public meeting will be held during the review period to receive comments and address questions concerning the draft report.

Dated: May 22, 2009.
Thomas P. Smith,
Colonel, Corps of Engineers, District Engineer, Memphis District.

[FR Doc. E9-12567 Filed 5-28-09; 8:45 am]

BILLING CODE 3710-KS-P